DEPARTMENT OF TRANSPORTATION

National Highway Traffic Safety Administration

[Docket No. NHTSA-2003-15209]

Public Meetings on Reporting Procedures Under the Early Warning Reporting Rule

AGENCY: National Highway Traffic Safety Administration (NHTSA), DOT.

ACTION: Notice of public meetings.

SUMMARY: This document announces that NHTSA will hold meetings with interested members of the public to discuss the manner in which early warning reporting (EWR) information is to be submitted by motor vehicle and motor vehicle equipment manufacturers to NHTSA's Office of Defects Investigation (ODI) pursuant to regulations adopted to implement the Transportation Recall Enhancement, Accountability, and Documentation (TREAD) Act.

DATES: NHTSA will conduct public meetings on June 18 and 19, 2003, with regard to specific motor vehicles and motor vehicle equipment, at the following times:

Tires: June 18, 2003 from 9:30 a.m. to 12 p.m.

Child restraint systems and other equipment: June 18, 2003 from 1 p.m. to 3:30 p.m.

Light vehicles: June 19, 2003 from 9:30 a.m. to 12 p.m.

Medium-heavy vehicles and buses: June 19, 2003 from 1 p.m. to 3:30 p.m.

Location: All meetings will be held in Room 8236 of the United States Department of Transportation (Nassif) Building, 400 Seventh Street, SW., Washington, DC 20590.

FOR FURTHER INFORMATION CONTACT: Ms. Lorena Villa, Office of Defects Investigation, National Highway Traffic Safety Administration, 400 Seventh Street, SW., Room 5319, Washington, DC 20590; (202) 366-0699 or at bvilla@nhtsa.dot.gov.

SUPPLEMENTARY INFORMATION: NHTSA will hold public meetings with interested members of the public to discuss the manner in which early warning reporting (EWR) information is to be submitted by motor vehicle and motor vehicle equipment manufacturers to NHTSA's Office of Defects Investigation (ODI) pursuant to subpart C of 49 CFR part 579. NHTSA will hold four separate public meetings to discuss submission by manufacturers of the following four types of products: tires, child restraint systems and other equipment, light vehicles, and medium/heavy vehicles and buses. At these meetings, NHTSA will discuss the procedures for the submission of EWR information, security measures for protection of EWR information, the manner in which NHTSA will acknowledge receipt of EWR information and identify problems with the submissions, and other technical matters. NHTSA will also answer questions raised on these issues at the meetings.

NHTSA recommends that all visitors arrive at least 45 minutes early in order to pass through building security. Visitors to the building should enter through the Southwest lobby to sign in with security and to be escorted to the meeting room.

NHTSA will provide auxiliary aids to participants as necessary. Any person desiring such auxiliary aids (sign language interpreter, telecommunications devices for deaf persons (TDDs), readers, taped tests, brailed materials, or large print materials, and magnifying devices) should contact Julia Goldson at (202) 366-9944, by Wednesday, June 4, 2003.

Issued on: May 19, 2003.
Kenneth N. Weinstein,
Associate Administrator for Enforcement.

[FR Doc. 03-13069 Filed 5-23-03; 8:45 am]

BILLING CODE 4910-59-P